DEPARTMENT OF TRANSPORTATION

Federal Aviation Administration

14 CFR Part 39

[Docket No. FAA-2018-0799; Product Identifier 2018-NM-117-AD; Amendment 39-19515; AD 2018-25-04]

RIN 2120-AA64

Airworthiness Directives; C Series Aircraft Limited Partnership (CSALP) (Type Certificate Previously Held by Bombardier, Inc.) Airplanes

AGENCY: Federal Aviation Administration (FAA), Department of Transportation (DOT).

ACTION: Final rule.

SUMMARY: We are adopting a new airworthiness directive (AD) for certain C Series Aircraft Limited Partnership (CSALP) Model BD-500-1A10 and BD-500-1A11 airplanes. This AD was prompted by reports of dislodged cargo compartment blowout panels. This AD requires repetitive inspections for any dislodged blow-out panel in the forward and aft cargo compartments, reporting of the inspection findings, and reinstallation if necessary. We are issuing this AD to address the unsafe condition on these products.

DATES: This AD is effective January 14, 2019.

The Director of the Federal Register approved the incorporation by reference of certain publication listed in this AD as of January 14, 2019.

ADDRESSES: For service information identified in this final rule, contact Bombardier, Inc., 400 Côte Vertu Road West, Dorval, Québec H4S 1Y9, Canada; telephone 514-855-5000; fax 514-855-7401; email thd.crj@aero.bombardier.com; internet http://www.bombardier.com. You may view this service information at the FAA, Transport Standards Branch, 2200 South 216th St., Des Moines, WA. For information on the availability of this material at the FAA, call 206-231-3195. It is also available on the internet at http://www.regulations.gov by searching for and locating Docket No. FAA-2018-0799.

Examining the AD Docket

You may examine the AD docket on the internet at http://www.regulations.gov by searching for and locating Docket No. FAA-2018-0799; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Darren Gassetto, Aerospace Engineer, Mechanical Systems and Admin Services Section, FAA, New York ACO Branch, 1600 Stewart Avenue, Suite 410, Westbury, NY 11590; telephone 516-228-7323; fax 516 794 5531; email 9-avs-nyaco-cos@faa.gov.

SUPPLEMENTARY INFORMATION:

Discussion

We issued a notice of proposed rulemaking (NPRM) to amend 14 CFR part 39 by adding an AD that would apply to certain C Series Aircraft Limited Partnership (CSALP) Model BD-500-1A10 and BD-500-1A11 airplanes. The NPRM published in the Federal Register on September 19, 2018 (83 FR 47315). The NPRM was prompted by reports of dislodged cargo compartment blowout panels. The NPRM proposed to require repetitive inspections for any dislodged blow-out panel in the forward and aft cargo compartments, reporting of the inspection findings, and reinstallation if necessary.

We are issuing this AD to address dislodged cargo compartment blow-out panels, which could result in openings in the forward and aft cargo compartments. In the event of a cargo compartment fire, these unintended openings in the forward and aft cargo compartments would provide a path for smoke, fire, and Halon to enter the adjacent equipment bays, flight deck, and passenger cabin, which could delay smoke detection in the forward and aft cargo compartments and result in the forward and aft cargo compartments not being able to maintain the Halon concentration required for fire suppression. The cargo compartment fire may become uncontrollable if this condition is not addressed, which could result in the loss of controllability of the airplane.

Transport Canada Civil Aviation (TCCA), which is the aviation authority for Canada, has issued Canadian AD CF-2018-15, dated June 6, 2018 (referred to after this as the Mandatory Continuing Airworthiness Information, or “the MCAI”), to correct an unsafe condition for certain C Series Aircraft Limited Partnership (CSALP) Model BD-500-1A10 and BD-500-1A11 airplanes. The MCAI states:

Multiple events of dislodged cargo compartment blow-out panels have been reported in-service. It was determined that these events were caused by baggage impacting the cargo panel cage, or the cargo compartment liner below the cargo panel cage, during baggage loading and unloading on the ground, or during flight due to shifting luggage.

Dislodged cargo compartment blow-out panels create openings in the forward and aft cargo compartments. In the event of a cargo compartment fire, these unintended openings in the forward and aft cargo compartments would provide a path for smoke, fire, and Halon to enter the adjacent equipment bays, flight deck, and passenger cabin, which could delay smoke detection in the forward and aft cargo compartments and result in the forward and aft cargo compartments not being able to maintain Halon concentration required for fire suppression. The cargo compartment fire may become uncontrollable if this condition is not corrected.

This [TCCA] AD mandates repetitive [detailed] inspections of the affected forward and aft cargo compartment blow-out panels, and reporting of inspection findings where dislodged blow-out panels have been found [and re-installation of dislodged blow-out panels].

You may examine the MCAI in the AD docket on the internet at http://www.regulations.gov by searching for and locating Docket No. FAA 2018 0799.

Comments

We gave the public the opportunity to participate in developing this final rule. We received no comments on the NPRM or on the determination of the cost to the public.

Change to Product Name

The type certificate holder for Model BD-500-1A10 and BD-500-1A11 airplanes has changed from “Bombardier, Inc.,” to “C Series Aircraft Limited Partnership (CSALP).” We have revised this AD accordingly.

Conclusion

We reviewed the relevant data and determined that air safety and the public interest require adopting this final rule with the change described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Bombardier has issued C Series Data Module BD500-A-J50-10-01-01AAA-310B-A, “Forward and aft cargo compartment blow-out panels—Visual check,” Issue 002, dated May 16, 2018. This service information describes procedures for an inspection for any dislodged blow-out panel in the forward and aft cargo compartments.

Bombardier has issued C Series Data Module BD500-A-J50-10-01-00AAA-521A-A, “Decompression panels dislodging—Return to basic configuration,” Issue 002, dated May 16, 2018. This service information describes procedures for re-installation of dislodged forward and aft cargo compartment blow-out panels.

This service information is reasonably available because the interested parties have access to it through their normal course of business or by the means identified in the ADDRESSES section.

Costs of Compliance

We estimate that this affects 21 airplanes of U.S. registry. We estimate the following costs to comply with this AD:

Estimated Costs for Required Actions
Labor cost | Parts cost | Cost per product | Cost on U.S. operators
1 work-hour × $85 per hour = $85 | $0 | $85 | $1,785

We estimate the following costs to do any necessary on-condition action that would be required based on the results of any required actions. We have no way of determining the number of aircraft that might need this on-condition action:

Estimated Costs of On-Condition Actions
Labor cost | Parts cost | Cost per product
2 work-hours × $85 per hour = $170 | $0 | $170

We estimate that it would take about 1 work-hour per product to comply with the on-condition reporting requirement in this AD. The average labor rate is $85 per hour. Based on these figures, we estimate the cost of reporting the inspection results on U.S. operators to be $85 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-25-04 C Series Aircraft Limited Partnership (CSALP) (Type Certificate Previously Held by Bombardier, Inc.): Amendment 39-19515; Docket No. FAA-2018-0799; Product Identifier 2018-NM-117-AD.

(a) Effective Date

This AD is effective January 14, 2019.

(b) Affected ADs

None.

(c) Applicability

This AD applies to C Series Aircraft Limited Partnership (CSALP) (Type Certificate Previously Held by Bombardier, Inc.) airplanes, certificated in any category, identified in paragraphs (c)(1) and (c)(2) of this AD.

(1) Model BD-500-1A10 airplanes, serial numbers 50001 and subsequent, equipped with blow-out panel part number D762213-503, D762216-505, or D762209-503.

(2) Model BD-500-1A11 airplanes, serial numbers 55001 and subsequent, equipped with blow-out panel part number D762213-503, D762216-505, or D762209-503.

(d) Subject

Air Transport Association (ATA) of America Code 50, Cargo and accessory compartment.

(e) Reason

This AD was prompted by reports of dislodged cargo compartment blow-out panels. We are issuing this AD to address this condition, which could result in openings in the forward and aft cargo compartments. In the event of a cargo compartment fire, these unintended openings in the forward and aft cargo compartments would provide a path for smoke, fire, and Halon to enter the adjacent equipment bays, flight deck, and passenger cabin, which could delay smoke detection in the forward and aft cargo compartments and result in the forward and aft cargo compartments not being able to maintain the Halon concentration required for fire suppression. The cargo compartment fire may become uncontrollable if this condition is not addressed, which could result in the loss of controllability of the airplane.

(f) Compliance

Comply with this AD within the compliance times specified, unless already done.

(g) Repetitive Inspections of the Forward and Aft Cargo Compartment Blow-Out Panels and Re-Installation

Within 7 days or 50 flight cycles, whichever occurs first, after the effective date of this AD, do a detailed inspection for any dislodged blow-out panel in the forward and aft cargo compartments, in accordance with C Series (Bombardier) Data Module BD500-A-J50-10-01-01AAA-310B-A, “Forward and aft cargo compartment blow-out panels—Visual check,” Issue 002, dated May 16, 2018. Re-install all dislodged forward and aft cargo compartment blow-out panels before further flight, in accordance with C Series (Bombardier) Data Module BD500-A-J50-10-01-00AAA-521A-A, “Decompression panels dislodging—Return to basic configuration,” Issue 002, dated May 16, 2018. Thereafter, at intervals not to exceed 100 flight cycles, repeat the detailed inspection for any dislodged blow-out panel in the forward and aft cargo compartments.

(h) Reporting

If any blow-out panel in the forward or aft cargo compartments is found dislodged during any inspection required by paragraph (g) of this AD, at the applicable time specified in paragraph (h)(1) or (h)(2) of this AD, report findings to the Bombardier customer response center (CRC) via email: crc_cseries@aero.bombardier.com. Reportable findings include the airplane serial number on which any dislodged blow-out panel was found, the date of inspection, and the part number and location of each dislodged blow-out panel.

(1) If the inspection was done on or after the effective date of this AD: Submit the report within 30 days after the inspection.

(2) If the inspection was done before the effective date of this AD: Submit the report within 30 days after the effective date of this AD.

(i) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(j) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or C Series Aircraft Limited Partnership's (CSALP's) TCCA Design Approval Organization (DAO). If approved by the DAO, the approval must include the DAO-authorized signature.

(k) Related Information

(1) Refer to Mandatory Continuing Airworthiness Information (MCAI) Canadian AD CF-2018-15, dated June 6, 2018, for related information. This MCAI may be found in the AD docket on the internet at http://www.regulations.gov by searching for and locating Docket No. FAA-2018-0799.

(2) For more information about this AD, contact Darren Gassetto, Aerospace Engineer, Mechanical Systems and Admin Services Section, FAA, New York ACO Branch, 1600 Stewart Avenue, Suite 410, Westbury, NY 11590; telephone 516-228-7323; fax 516 794 5531; email 9-avs-nyaco-cos@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) C Series (Bombardier) Data Module BD500-A-J50-10-01-00AAA-521A-A, “Decompression panels dislodging—Return to basic configuration,” Issue 002, dated May 16, 2018.

(ii) C Series (Bombardier) Data Module BD500-A-J50-10-01-01AAA-310B-A, “Forward and aft cargo compartment blow-out panels—Visual check,” Issue 002, dated May 16, 2018.

(3) For service information identified in this AD, contact Bombardier, Inc., 400 Côte Vertu Road West, Dorval, Québec H4S 1Y9, Canada; telephone 514-855-5000; fax 514-855-7401; email thd.crj@aero.bombardier.com; internet http://www.bombardier.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on November 23, 2018.
John P. Piccola,
Acting Director, System Oversight Division, Aircraft Certification Service.

[FR Doc. 2018-26473 Filed 12-7-18; 8:45 am]

BILLING CODE 4910-13-P